FEDERAL COMMUNICATIONS COMMISSION

47 CFR Parts 27, 54, 73, 74, and 76

[MB Docket No. 17-105; FCC 18-3]

Deletion of Rules Made Obsolete by the Digital Television Transition

AGENCY: Federal Communications Commission.

ACTION: Final rule.

SUMMARY: In this document, the Federal Communications Commission (Commission) eliminates rules that have been made obsolete by the digital television transition.

DATES: These rule revisions are effective on February 8, 2018.

FOR FURTHER INFORMATION CONTACT: For additional information on this proceeding, contact Raelynn Remy of the Policy Division, Media Bureau at Raelynn.Remy@fcc.gov, or (202) 418-2120.

SUPPLEMENTARY INFORMATION: This is a summary of the Commission's Report and Order (Order), FCC 18-3, adopted and released on January 24, 2018. The full text is available for public inspection and copying during regular business hours in the FCC Reference Center, Federal Communications Commission, 445 12th Street SW, Room CY-A257, Washington, DC 20554. This document will also be available via ECFS at https://apps.fcc.gov/edocs_public/attachmatch/FCC-18-3A1.docx. Documents will be available electronically in ASCII, Microsoft Word, and/or Adobe Acrobat. The complete text may be purchased from the Commission's copy contractor, 445 12th Street SW, Room CY-B402, Washington, DC 20554. Alternative formats are available for people with disabilities (Braille, large print, electronic files, audio format), by sending an email to fcc504@fcc.gov or calling the Commission's Consumer and Governmental Affairs Bureau at (202) 418-0530 (voice), (202) 418-0432 (TTY).

Paperwork Reduction Act of 1995 Analysis

This document does not contain new or modified information collection requirements subject to the Paperwork Reduction Act of 1995 (PRA). In addition, therefore, it does not contain any new or modified information collection burden for small business concerns with fewer than 25 employees, pursuant to the Small Business Paperwork Relief Act of 2002.

Synopsis

1. In this Order, we make non-substantive, editorial revisions to parts 27, 54, 73, 74, and 76 of the Commission's rules as part of our continuing efforts to modernize our media regulations and eliminate unnecessary rules.¹ These revisions delete rule provisions that are without current legal effect and are therefore obsolete.²

¹ Commission Launches Modernization of Media Regulation Initiative, Public Notice, 32 FCC Rcd 4406 (MB 2017).

² We delegate authority to the Media Bureau to make conforming amendments to other Commission rules that cross-reference the rule sections deleted in this Order.

2. We delete rules that impose consumer notification and station interference protection obligations relating to the analog-to-digital transition for full power television broadcast stations (DTV transition), which concluded on June 12, 2009. In particular, we delete §§ 27.20, 54.418, 73.616(a) and the accompanying Note, 73.674, 73.3526(e)(11)(iv), 73.3527(e)(13) and 76.1630 of the Commission's rules, which are without current legal effect and obsolete. We also delete the Note to § 73.625(a)(1), which sets forth outdated DTV principal community coverage minimum field strength requirements applicable to certain television broadcast licensees.

3. In addition, we delete rules that were adopted in conjunction with full power analog television broadcasting, which is no longer permitted. Specifically, we delete §§ 73.607, 73.610, 73.611, 73.671(d), 73.6011, 73.6016, and 74.705 of the Commission's rules, which are without current legal effect and obsolete. In addition, we amend § 73.606 of our rules by deleting the Table of Allotments applicable to full power analog television broadcast service and cross-referencing § 73.622(i), which sets forth the Post-Transition Table of DTV Allotments and is the “successor regulation” to § 73.606.³

³ Section 73.606 (the analog TV Table of Allotments) is referenced in the statutory definition of a “qualified noncommercial educational television station” that qualifies for must carry rights, although the statute also refers to “any successor regulation” to § 73.606. The “successor regulation” to § 73.606 is § 73.622(i), the Post-Transition Table of DTV Allotments. During the post-incentive auction transition process, the Commission has explained that it will not use a codified Table of Allotments to implement post-auction channel changes and that the Media Bureau intends to initiate a proceeding to amend § 73.622 of the rules to reflect all new full power channel assignments as well as NCE status in a revised Table of Allotments.

4. The rule revisions adopted in this Order are non-substantive, editorial revisions. Because these revisions merely eliminate provisions that are no longer effective and thus obsolete, we find good cause to conclude that notice and comment procedures are unnecessary and would not serve any useful purpose. For the same reason, and to expedite the elimination of such obsolete references for the benefit of the public, we find good cause to make these rule revisions effective upon publication in the Federal Register.

5. Because these rule changes do not require notice and comment, the Regulatory Flexibility Act does not apply.

6. The Commission will send a copy of the Order in a report to Congress and the Government Accountability Office pursuant to the Congressional Review Act.

7. Accordingly, it is ordered that, effective upon publication in the Federal Register, parts 27, 54, 73, 74, and 76 of the Commission's rules are amended pursuant to the authority contained in sections 4(i) and 303(r) of the Communications Act of 1934, as amended, 47 U.S.C. 154(i), 303(r) and in sections 553(b)(3)(B) and 553(d)(3) of the Administrative Procedure Act, 5 U.S.C. 553(b)(3)(B), 553(d)(3).

List of Subjects

47 CFR Parts 27 and 54

Communications, Communications common carriers, Telecommunications.

47 CFR Parts 73 and 74

Communications, Television.

47 CFR Part 76

Cable television, Communications, Television.

Federal Communications Commission.
Marlene H. Dortch,
Secretary, Office of the Secretary.

Final Rules

For the reasons discussed in the preamble, the Federal Communications Commission amends 47 CFR parts 27, 54, 73, 74, and 76 as follows:

PART 27—MISCELLANEOUS WIRELESS COMMUNICATIONS SERVICES

1. The authority citation for part 27 continues to read as follows:

Authority: 47 U.S.C. 154, 301, 302a, 303, 307, 309, 332, 336, 337, 1403, 1404, 1451, and 1452, unless otherwise noted.

§ 27.20 [Removed]

2. Remove § 27.20.

PART 54—UNIVERSAL SERVICE

3. The authority citation for part 54 continues to read as follows:

Authority: 47 U.S.C. 151, 154(i), 155, 201, 205, 214, 219, 220, 254, 303(r), 403, and 1302 unless otherwise noted.

§ 54.418 [Removed]

4. Remove § 54.418.

PART 73—RADIO BROADCAST SERVICES

5. The authority citation for part 73 continues to read as follows:

Authority: 47 U.S.C. 154, 303, 309, 310, 334, 336, and 339.

6. Revise § 73.606 to read as follows:

§ 73.606 Table of allotments.

The table of allotments set forth in § 73.622(i) contains the channels designated for the listed communities in the United States, its Territories, and possessions. Channels designated with an asterisk are assigned for use by noncommercial educational broadcast stations only.

§§ 73.607, 73.610, and 73.611 [Removed]

7. Remove §§ 73.607, 73.610, and 73.611.

§ 73.616 [Amended]

8. Amend § 73.616 by removing paragraph (a), redesignating paragraphs (b) through (f) as paragraphs (a) through (e), and removing the note to § 73.616.

§ 73.625 [Amended]

9. Amend § 73.625(a)(1) by removing the note to the paragraph.

§ 73.671 [Amended]

10. Amend § 73.671 by removing and reserving paragraph (d).

§ 73.674 [Removed]

11. Remove § 73.674.

§ 73.3526 [Amended]

12. Amend § 73.3526 by removing paragraph (e)(11)(iv).

§ 73.3527 [Amended]

13. Amend § 73.3527 by removing and reserving paragraph (e)(13).

§§ 73.6011 and 73.6016 [Removed]

14. Remove §§ 73.6011 and 73.6016.

PART 74—EXPERIMENTAL RADIO, AUXILIARY, SPECIAL BROADCAST AND OTHER PROGRAM DISTRIBUTIONAL SERVICES

15. The authority citation for part 74 continues to read as follows:

Authority: 47 U.S.C. 154, 302a, 303, 307, 309, 310, 336 and 554.

§ 74.705 [Removed]

16. Remove § 74.705.

PART 76—MULTICHANNEL VIDEO AND CABLE TELEVISION SERVICE

17. The authority citation for part 76 continues to read as follows:

Authority: 47 U.S.C. 151, 152, 153, 154, 301, 302, 302a, 303, 303a, 307, 308, 309, 312, 315, 317, 325, 338, 339, 340, 341, 503, 521, 522, 531, 532, 534, 535, 536, 537, 543, 544, 544a, 545, 548, 549, 552, 554, 556, 558, 560, 561, 571, 572, 573.

§ 76.1630 [Removed]

18. Remove § 76.1630.

[FR Doc. 2018-02552 Filed 2-7-18; 8:45 am]

BILLING CODE 6712-01-P